DEPARTMENT OF AGRICULTURE

Submission for OMB Review; Comment Request

August 19, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Evaluation of the Underserved Elderly and Working Poor in the Supplemental Nutrition Assistance Program (SNAP) FY 2009 Pilots.

OMB Control Number: 0584-NEW.

Summary of Collection: The Omnibus Appropriations Act of 2009 (Pub. L. 118-8) provided $4.5 million for the USDA Food and Nutrition Service (FNS) to pilot and evaluate a range of approaches for expanding access to Supplemental Nutrition Assistance Program (SNAP) among two key underserved populations—eligible households with elderly members and eligible households with adult members who are working or are looking for work (working poor households). According to the latest (2007) U.S. Department of Agriculture estimates, less than one-third of elderly (age 60 and older) persons who are eligible for SNAP actually participate in the program. Less than three-fifths of persons in eligible households with someone working participate in the program. These low participation rates suggest that many elderly or working poor people who need SNAP are not receiving its assistance. Without SNAP, elderly individuals may not be able to meet their nutritional needs or may forgo medicine for food; working people may not be able to adequately feed their families, despite their work efforts.

Need and Use of the Information: FNS has funded six State demonstration projects to increase SNAP access to eligible households with either person over age 60 or with adult members who are working or looking for work. FNS is conducting an evaluation of the demonstration projects. By evaluating these demonstrations, FNS will be able to advise Federal policymakers and State administrators on the best approaches to increasing SNAP access for those two populations. The evaluation will describe each demonstration project and the implementation process; assess the impact on SNAP participation in the target groups, application barriers, client satisfaction, household benefits, administrative costs and payment errors; and assess the sustainability and replicability of each demonstration project. FNS will collect and analyze administrative data in each demonstration State and will conduct site visits to each demonstration project and conduct focus groups with SNAP applicants.

Description of Respondents: Individuals or households.

Number of Respondents: 1,200.

Frequency of Responses: Reporting: Other (One-time).

Total Burden Hours: 195.

Ruth Brown,
Departmental Information Collection Clearance Officer.

[FR Doc. 2010-20997 Filed 8-23-10; 8:45 am]

BILLING CODE 3410-30-P